DEPARTMENT OF ENERGY

Environmental Management Site-Specific Advisory Board, Portsmouth

AGENCY: Department of Energy.

ACTION: Notice of open meeting.

SUMMARY: This notice announces a meeting of the Environmental Management Site-Specific Advisory Board (EM SSAB), Portsmouth (known locally as the Portsmouth Site-Specific Advisory Board [PORTS SSAB]), Decontamination and Decommissioning (D&D) and Future Land Use Subcommittees. The Federal Advisory Committee Act (Pub. L. 92-463, 86 Stat. 770) requires that public notice of this meeting be announced in the Federal Register.

DATES: Tuesday, February 9, 2010—4:30 p.m.

ADDRESSES: Ohio State University, Endeavor Center, 1862 Shyville Road, Piketon, Ohio 45661.

FOR FURTHER INFORMATION CONTACT: Joel Bradburne, Deputy Designated Federal Officer, Department of Energy Portsmouth/Paducah Project Office, Post Office Box 700, Piketon, Ohio 45661, (740) 897-3822, Joel.Bradburne@lex.doe.gov.

SUPPLEMENTARY INFORMATION: Purpose of the Board: The purpose of the Board is to make recommendations to DOE-EM and site management in the areas of environmental restoration, waste management, and related activities.

Purpose of the D&D Subcommittee: The purpose of the subcommittee is to focus on waste disposition and recycling issues at the Portsmouth site.

Purpose of the Future Land Use Subcommittee: The purpose of the subcommittee is to focus on reuse incentives, reindustrialization, and technology development at the Portsmouth site.

Tentative Agenda

4:30 p.m.—D&D Subcommittee Session

• Review of January Summary

• Waste Disposition Option Updates

○ Shipping, Transporting, and Contamination Levels

• Public Comment Period

• Review of Action Items

6:30 p.m.—Future Land Use Subcommittee Session

• Review of January Summary

• Discussion of Priorities

• Public Comment Period

• Review of Action Items

Adjourn

Public Participation: The EM SSAB, Portsmouth, welcomes the attendance of the public at its meetings and will make every effort to accommodate persons with physical disabilities or special needs. If you require special accommodations due to a disability, please contact Joel Bradburne at least five days in advance of the meetings at the phone number listed above. Written statements may be filed with the Board either before or after the meeting. Individuals who wish to make oral statements pertaining to agenda items should contact Joel Bradburne at the address or telephone number listed above. The Deputy Designated Federal Officer is empowered to conduct the meeting in a fashion that will facilitate the orderly conduct of business. Individuals wishing to make public comments will be provided a maximum of five minutes to present their comments. This notice is being published less than 15 days prior to the meeting date due to programmatic issues that had to be resolved prior to the meeting date.

Minutes: Minutes will be available by writing or calling Joel Bradburne at the address and phone number listed above. Minutes will also be available at the following Web site: http://www.ports-ssab.org/publicmeetings.html.

Issued at Washington, DC, on January 22, 2010.
Rachel Samuel,
Deputy Committee Management Officer.

[FR Doc. 2010-1684 Filed 1-28-10; 8:45 am]

BILLING CODE 6450-01-P